DEPARTMENT OF THE TREASURY

Internal Revenue Service

26 CFR Part 1

[REG-141075-09]

RIN 1545-BJ15

Property Transferred in Connection With the Performance of Services Under Section 83

Correction

In proposed rule document 2012-12855 appearing on pages 31783-31786 in the issue of Wednesday, May 30, 2012 make the following correction:

On page 31785, in the second column, in the fifth full paragraph, the authority citation “26 U.S.C. 7805.” should read “26 U.S.C. 7805 * * *”.

[FR Doc. C1-2012-12855 Filed 6-15-12; 8:45 am]

BILLING CODE 1505-01-D